DEPARTMENT OF ENERGY

Federal Energy Regulatory Commission

[Project Nos. 405-106 and 2355-018: Project No. 1888-030]

Exelon Generation Company, LLC; York Haven Power Company, LLC; Public Meetings Soliciting Comments on the Draft Multi-Project Environmental Impact Statement for the York Haven Hydroelectric Project, The Muddy Run Pumped Storage Project, and the Conowingo Hydroelectric Project

On July 30, 2014, the Federal Energy Regulatory Commission (Commission or FERC) issued a Draft Multi-Project Environmental Impact Statement (draft EIS) for the York Haven Hydroelectric Project No. 1888-030 (York Haven Project), the Muddy Run Pumped Storage Project No. 2355-018 (Muddy Run Project), and the Conowingo Hydroelectric Project No. 405-106 (Conowingo Project). The draft EIS documents the views of governmental agencies, non-governmental organizations, affected Indian tribes, the public, the license applicants, and Commission staff. All written comments must be filed by Monday, September 29, 2014, and should reference Project Nos. 1888-030, 2355-018, and 405-106. More information on filing comments can be found in the letter at the front of the draft EIS or on the Commission's Web site at http://www.ferc.gov/docs-filing/efiling.asp. Although the Commission strongly encourages electronic filing, documents may also be paper-filed.

In addition to or in lieu of sending written comments, you are invited to attend public meetings that will be held to receive comments on the draft EIS. The daytime meeting will focus on resource agency, Indian tribes, and non-governmental organization comments, while the evening meetings are primarily for receiving input from the public; however, all interested individuals and entities are invited to attend any of the public meetings. The time and location of the meetings are as follows:

Date: Tuesday, September 16, 2014.

Time: 10:00 a.m.

Place: Darlington Fire Station.

Address: 2600 Castleton Road, Darlington, Maryland 21034, (410) 965-7740.

Date: Tuesday, September 16, 2014.

Time: 6:00 p.m.

Place: Darlington Fire Station.

Address: 2600 Castleton Road, Darlington, Maryland 21034, (410) 965-7740.

Date: Wednesday, September 17, 2014.

Time: 6:00 p.m.

Place: Holiday Inn Harrisburg East.

Address: 4751 Lindle Road, Harrisburg, Pennsylvania 17111, (717) 939-7841.

At these meetings, resource agency personnel and other interested persons will have the opportunity to provide oral and written comments and recommendations regarding the draft EIS. The meetings will be recorded by a court reporter, and all statements (verbal and written) will become part of the Commission's public record for the project. These meetings are posted on the Commission's calendar located at http://www.ferc.gov/EventCalendar/EventsList.aspx along with other related information.

For further information, contact Emily Carter at (202) 502-6512 or at emily.carter@ferc.gov.

Dated: August 11, 2014.
Kimberly D. Bose,
Secretary.

[FR Doc. 2014-19466 Filed 8-15-14; 8:45 am]

BILLING CODE 6717-01-P